DEPARTMENT OF ENERGY

Federal Energy Regulatory Commission

[Docket No. CP01-389-000]

Transcontinental Gas Pipe Line Corporation; Notice of Application

June 25, 2001.

Take notice that on June 19, 2001, Transcontinental Gas Pipe Line Corporation (Transco), 2800 Post Oak Boulevard, P.O. Box 1396, Houston, Texas 77251-1396, filed in Docket No. CP01-389-000 an application pursuant to Section 7(c) of the Natural Gas Act (NGA) and Part 157A of the Federal Energy Regulatory Commission's (Commission) regulations for a certificate of public convenience and necessity authorizing Transco to construct its Leidy East Expansion Project (Leidy East) to provide up to 130,000 dth per day of firm transportation for customers in New York, New Jersey, and Pennsylvania all as more fully set forth in the application which is on file with the Commission and open to public inspection. The filing may be viewed at http://www.ferc.fed.us/efi/rims all 202-208-2222 for assistance).

Specifically, Transco requests authority to construct and operate:

(1) 4.64 miles of 36-inch diameter pipeline loop between milepost 178.49 and milepost 183.13 in Clinton County, Pennsylvania (Haneyville Loop);

(2) 3.73 miles of 42-inch diameter pipeline loop between milepost 134.57 and milepost 138.30 in Lycoming County, Pennsylvania (Williamsport Loop);

(3) 6.09 miles of 42-inch diameter pipeline between milepost 33.19 in Columbia County Pennsylvania and milepost 39.28 in Luzerne County, Pennsylvania (Benton Loop);

(4) 6.27 miles of 42-inch diameter pipeline loop between milepost 30.29 in Northampton County, Pennsylvania and milepost 36.56 in Northampton County, Pennsylvania. (Allentown Loop);

(5) 4.69 miles of 42-inch diameter pipeline loop between milepost 18.25 and milepost 13.62 in Hunterdon County, New Jersey (Clinton Loop);

(6) 5.14 miles of 42-inch diameter pipeline loop between milepost 1789.60 and milepost 1793.92 in Somerset County, New Jersey (Stirling Loop);

(7) Impeller replacements on two (2) existing 12,600 horsepower, turbine-driven compressor units at Transco's existing Compressor Station 520, located at milepost 157.52 in Lycoming County Pennsylvania;

(8) An impeller replacement and uprate of an existing 12,600 horsepower turbine-driven compressor unit to 15,000 horsepower at Transco's existing Compressor Station 515, located at milepost 68.95 in Luzerne County Pennsylvania;

(9) Modifications to electronic control systems to uprate an electric motor-driven compressor unit from 15,000 horsepower to 16,000 horsepower at Transco's existing Compressor Station 205, located at milepost 1773.30 in Mercer County, New Jersey; and

(10) Modifications to Transco's existing Centerville Regulator Station located at milepost 0.11 in Somerset County, New Jersey.

The estimated cost of the proposed facilities is approximately $98 million. Transco requests a final certificate order no later than October 24, 2001, in order to complete the project to meet the November 1, 2002, in-service date required by its shippers. Transco states that the Commission has previously reviewed the proposed facilities in its Market Link proceeding in Docket No. CP98-540-000 et. al.

Transco states that it has entered into firm service agreements with four shippers for the entire 130,000 dth per day of transportation capacity created by the expansion. The expansion shippers and their respective volumes and terms are as follows:

Shipper | Volume (dth per day) | Term (years)
Aquila Energy Marketing Corporation | 25,000 | 10
PEPCO Energy Company | 30,000 | 10
Reliant Energy Services, Inc | 25,000 | 20
Williams Energy Marketing & Trading Company | 50,000 | 10

Transco states that it has developed a new incremental recourse rate for Leidy East shippers of $13.56 per dth and that transportation service under the Leidy East project will be provided under Rate Schedule FT of Transco's FERC Gas Tariff, Volume No. 1, and Transco's blanket certificate under Part 284G of the Commission's regulations. The Leidy East shippers will also be responsible for fuel retention, electric power, and other applicable charges and surcharges under Rate Schedule FT. Transco notes that all of the Leidy East shippers have elected to pay negotiated rates pursuant transco's FERC Gas Tariff.

Any questions regarding this application should be directed to Ms. Angela D. Mendoza, Transcontinental Gas Pipeline Corporation, P.O. Box 1396, Houston, Texas 77251 or call (713) 215-4098. In addition, Tansco has also established a toll-free telephone number (1-888-887-0486) so that interested parties can call with questions about the Leidy East Project. In addition, Transco has also scheduled the following five open houses to answer questions from affected landowners and other stakeholders about the project.

Date | Location of open house | Loop | City/state
June 18, 2001 | Gateway Bethlehem Holiday Inn | Allentown | Bethlehem, PA.
June 19, 2001 | Bridgewater Manor | Stirling | Bridgwater, NJ.
June 20, 2001 | Clinton Holiday Inn | Clinton | Clinton, NJ.
June 25, 2001 | Radisson Hotel | Williamsport | Wiliamsport, PA.
June 26, 2001 | Jackson Twp. Municipal Bldg | Benton | Benton, PA.

There are two ways to become involved in the Commission's review of this project. First, any person wishing to obtain legal status by becoming a party to the proceedings for this project should, on or before July 10, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will received copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.gov/documents/makeanelectronicfiling/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-16419 Filed 6-28-01; 8:45 am]

BILLING CODE 6717-01-M